DEPARTMENT OF TRANSPORTATION

Office of the Secretary

Aviation Proceedings, Agreements Filed the Week Ending March 10, 2011

The following Agreements were filed with the Department of Transportation under the Sections 412 and 414 of the Federal Aviation Act, as amended (49 U.S.C. 1382 and 1384) and procedures governing proceedings to enforce these provisions. Answers may be filed within 21 days after the filing of the application.

Docket Number: DOT-OST-2012-0035.

Date Filed: March 7, 2012.

Parties: Members of the International Air Transport Association.

Subject: Mail Vote 702—Resolution 100 Standard Condition Resolution for Special Fares (Memo 1665) Intended effective date: 1 April 2012.

Renee V. Wright,
Program Manager, Docket Operations, Federal Register Liaison.

[FR Doc. 2012-8446 Filed 4-9-12; 8:45 am]

BILLING CODE 4910-9X-P